DEPARTMENT OF TRANSPORTATION

Office of the Secretary of Transportation

[DOT Docket No. DOT-OST-2010-0074]

The First Semi-Annual Aviation Workforce Management Conference

AGENCY: Office of the Secretary of Transportation (DOT), U.S. Department of Transportation.

ACTION: Notice of Conference.

SUMMARY: The Department of Transportation, Office of the Secretary of Transportation, announces the First Semi-Annual Aviation Workforce Management Conference which will be held in Washington DC. The Conference will be co-hosted by the Secretary of Transportation Ray LaHood, Secretary of Labor Hilda L. Solis and Secretary of Education Arne Duncan. The Federal Aviation Administrator J. Randolph (Randy) Babbitt will also participate in the Conference. This will be the first semi-annual conference recommended by the Subcommittee on Labor and World-Class Workforce of the former Future of Aviation Advisory Committee (FAAC).

DATES: The Conference will be held on September 21, 2011, from 9:30 a.m. to 12:30 p.m. (EDT).

ADDRESSES: The Conference will be held at the Department of Transportation, 1200 New Jersey Avenue, SE., Washington, DC 20590, in the West Building Atrium.

FOR FURTHER INFORMATION CONTACT: Bonnie M. Gray, Conference Coordinator at 202-267-8712 or by e-mail at FAAC@faa.gov.

SUPPLEMENTARY INFORMATION: Agenda: The agenda will include aviation workforce development issues that focus on the need for a future workforce with solid foundations in the science, technology, engineering, and mathematics disciplines, and best practices for addressing labor/management issues. The Conference implements Recommendation 17 of FAAC, “The Secretary of Transportation should endorse and implement a semi-annual Aviation Industry Workforce-Management Conference beginning in September 2011. The mandate of the conference would be to bridge the gap of information and understanding that generally exists today between the aviation workforce and its management, with the ultimate goal of a healthier industry for all.” A copy of the agenda will be posted at http://www.dot.gov/faac when finalized.

Public Access: Members of the public and all members of the aviation community are invited to attend. Pre-registration is required of all attendees. (See below for registration instructions).

Registration Instructions: Space for the Conference is limited. Registration will be available on a first-come, first-serve basis. Once the maximum number of 300 registrants has been reached, registration will close. Requests to attend the meeting must be received by close of business on September 6, 2011.

• All foreign nationals must register and provide their date of birth, passport number, and country of issue by August 26, 2011.

• Persons with disabilities who require special assistance should advise the Department of their anticipated special need(s) at the time of registration, under the subject line “Special Assistance,”.

• To register: Send an e-mail to FAAC@faa.gov with “Registration” in the subject line including the following information:

○ Last name, First name;

○ Title (if any);

○ Company or affiliation (if any);

○ Address;

○ Phone number;

○ US Citizen (Y/N);

○ E-mail address for confirmation of registration.

• The DOT Headquarters Building is a secure Federal facility.

• An e-mail will be sent confirming your registration along with details on security procedures for entering the DOT Headquarters Building.

• There will be no Internet access at the Conference. Bringing computers into the building requires additional security screening.

• Pre-registration for the Conference will be by e-mail only.

Entering the DOT Headquarters Building

• Admission to the Conference site will be at the New Jersey Avenue entrance only.

• A valid form of government issued ID with an expiration date is required for all attendees.

• Only pre-registered attendees may attend the conference.

• Check-in will be from 7:30 to 9:15 a.m. on September 21, 2011. Please arrive early to allow ample time for security clearance and an escort to take you to the Conference room.

• All attendees must be screened and pass through a metal detector.

• No firearms are allowed in the building, including with protection details.

• Special accessibility requirements should be noted in your e-mail registration.

• There will be no parking available at DOT headquarters and public parking in the area is limited. Car-pooling, taxis, or public transportation are recommended.

• Public Transportation information: The Navy Yard Metro stop on the Green Line (at M Street and New Jersey Ave., SE.) is across the street from DOT's New Jersey Ave entrance. Navy Yard is also serviced by the A9, A42, A46, A48, P1, P2, V7, V8, V9, 903, CIRC, and PRTC buses. Additional trip planning information can be found at http://www.wmata.com.

Issued on: August 26, 2011.
Ray LaHood,
Secretary of Transportation.

[FR Doc. 2011-22594 Filed 9-1-11; 8:45 am]

BILLING CODE P